DEPARTMENT OF HOMELAND SECURITY

[DHS-2013-0037]

Homeland Security Information Network Advisory Committee (HSINAC); Meeting

AGENCY: OPS/OCIO, DHS.

ACTION: Committee Management; Notice of Federal Advisory Committee Meeting.

SUMMARY: The Homeland Security Information Network Advisory Committee (HSINAC) will meet on Tuesday, June 25th, 2013 from 1 p.m.-3 p.m. EST by teleconference. The HSINAC provides advice and recommendations to the U.S. Department of Homeland Security (DHS) on matters relating to the HSIN Program. These matters include system requirements, operating policies, community organization, knowledge management, interoperability and federation with other systems, and any other aspect of HSIN that supports the operations of DHS and its federal, state, territorial, local, tribal, international, and private sector mission partners. The purpose of this next meeting is for the committee to receive an interim status update on the HSIN Program and progress made since the last meeting in February 2013. Specifically, the HSIN Program would like to request advice and recommendations on the user experience regarding the identity proofing process, HSIN Legacy to HSIN Release 3 migration process, and discuss communication tactics regarding the HSIN value proposition. The meeting will be conducted virtually through a teleconference line provided below. The meeting will be open to the public.

DATES: HSINAC will meet Tuesday, June 25th, 2013 from 1 p.m.-3 p.m. EST via teleconference. Please note that the meeting may end early if the committee has completed its business.

ADDRESSES: Members of the public may monitor the meeting by calling: 1-800-320-4330 Conference Pin: 673978. The teleconference lines will be open for the public and the meeting brief will be posted beforehand at this link: http://www.dhs.gov/homeland-security-information-network-advisory-committee. There is a meeting room reserved at 131 M St. NE., Washington, DC, Floor 3, Room 03Q15, whereas members of the public may come to participate. The building is a Federal facility and all guests will need to show official government-issued photo identification to the security guards upon entrance. Guests will also be required to process through a metal detector and have their bags scanned. If the Federal government is closed, the meeting will be rescheduled.

For information on facilities or services for individuals with disabilities or to request special assistance at the meeting, contact Michael Brody, michael.brody@hq.dhs.gov, 202-357-7661, as soon as possible.

To facilitate public participation, we are inviting public comment on the issues to be considered by the committee as listed in the “Summary” section below. Comments must be submitted in writing no later than June 20th and must be identified by DHS-2013-0037 and may be submitted by one of the following methods:

• Federal eRulemaking Portal: http://www.regulations.gov. Follow the instructions for submitting comments.

• Email: Michael Brody, michael.brody@hq.dhs.gov. Please also include the docket number in the subject line of the message.

• Fax: 202-357-7678

• Mail: Michael Brody, Department of Homeland Security, OPS CIO-D Stop 0426, 245 Murray Lane SW., BLDG 410, Washington, DC 20528-0426.

Instructions: All submissions received must include the words “Department of Homeland Security” and the docket number for this action. Comments received will be posted without alteration at http://www.regulations.gov, including any personal information provided.

Docket: For access to the docket to read background documents or comments received by the HSINAC go to http://www.regulations.gov.

A public comment period will be held during the meeting on Tuesday, June 25th from 2:15 p.m. to 2:30 p.m., and speakers are requested to limit their comments to 3 minutes. Please note that the public comment period may end before the time indicated, following the last call for comments. Contact the individual listed below to register as a speaker.

FOR FURTHER INFORMATION CONTACT: Designated Federal Officer, Michael Brody, Michael.brody@hq.dhs.gov, Phone: 202-357-7661, Fax: 202-357-7678, or Alternate Designated Federal Officer, Sarah Schwettman, sarah.schwettman@hq.dhs.gov, Phone: 202-357-7882.

SUPPLEMENTARY INFORMATION: Notice of this meeting is given under the Federal Advisory Committee Act, 5 United States Code Appendix. (Pub. L. 92-463).

The HSINAC will meet to review, discuss and make recommendations on key messaging to stakeholder community showcasing the vision of HSIN and its progressive development efforts.

Agenda

• Review the HSINAC members' HSIN Release 3 (R3) registration experiences

○ Discuss the results of the HSIN Policy/HSIN Development informal analysis and capture feedback from the HSINAC members

• Update On HSIN R3 Migration Status, Latest advances in system development, and the HSIN Communications Implementation Strategy

• Obtain recommendations from the HSINAC on key messaging and delivery tactics regarding the following communication topics:

○ Identity Proofing (IDP) Process

• An electronic based process whereas HSIN Release 3 applicants are required to answer knowledge-based questions pertaining to their personal financial history, credit history, etc. in order to successfully verify their identity before gaining access into HSIN Release 3. This new requirement advances overall system security. The HSIN Program would like to obtain advice on how to best communicate this IDP process to the user communities.

○ HSIN Legacy to HSIN Release 3 Migration Process

• HSIN Legacy users are being migrated to the HSIN Release 3 platform. The objective for this discussion topic is for the HSIN Program to identify how well the user experience transition was implemented and ways that the process can be enhanced going forward. Additionally, the HSIN Program will obtain advice from the HSINAC on the current communication efforts regarding migration and how these efforts could be more effective.

○ HSIN Release 3 Value Proposition

• The HSIN Release 3 platform has advanced features and functionalities associated with the upgrade. The HSIN Program is seeking advice from the HSINAC on how to best communicate the value proposition—including its advanced features/functionalities, enhanced security measures, and advanced information sharing capabilities—to the enterprise-wide user community.

○ 15 minute public comment period

○ HSINAC deliberation session and vote on recommendations

Dated: June 3, 2013.
James Lanoue,
HSIN Acting Program Manager.

[FR Doc. 2013-13617 Filed 6-7-13; 8:45 am]

BILLING CODE 9110-9B-P